SMALL BUSINESS ADMINISTRATION

[Declaration of Disaster #3364, Amdt. #3]

State of New York

In accordance with information received from the Federal Emergency Management Agency, the above numbered declaration is hereby amended to extend the deadline for filing applications for physical damages as a result of this disaster to March 11, 2002.

All other information remains the same, i.e., the deadline for filing applications for economic injury is June 11, 2002.

(Catalog of Federal Domestic Assistance Program Nos. 59002 and 59008)
Dated: January 4, 2002.
Herbert L. Mitchell,
Associate Administrator for Disaster Assistance.

[FR Doc. 02-933 Filed 1-14-02; 8:45 am]

BILLING CODE 8025-01-P